DEPARTMENT OF COMMERCE

National Oceanic and Atmospheric Administration

Distribution of NOAA Digital Navigation and Associated Data

AGENCY: Office of Coast Survey, National Ocean Service, National Oceanic and Atmospheric Administration, Department of Commerce.

ACTION: Notice.

SUMMARY: NOAA's National Ocean Service (NOS) is announcing the distribution of Raster Navigational Charts (RNCs) to the public via the Internet. These RNCs have primary application in navigation and geographic information systems. Providing mariners with more timely and accurate information via the Internet is expected to improve their decision-making capability in an often rapidly changing marine environment, thus improving marine safety and reducing the risk of accidents, including injury to people, property, the environment, and local economies. Paper versions of the nautical charts will continue to be available from existing sources.

In addition, NOS is announcing the availability of a public service by which fully updated versions of NOAA nautical charts are posted on the Internet in a manner that they may be readily examined on-line. The intent of this service is to make the updated charts easily accessible anywhere for use as a planning and reference tool. Access to the on-line, nautical chart viewer can be had from http://www.NauticalCharts.gov/viewer.

DATES: Comments on this action should be submitted on or before 5 p.m., EST, January 3, 2006.

ADDRESSES: Comments in writing should be submitted to Director, Office of Coast Survey, National Ocean Service, NOAA (N/CS), 1315 East West Highway, Silver Spring, MD, 20910. Written comments may be faxed to (301) 713-4019. Comments by e-mail should be submitted to Jim.Gardner@noaa.gov.

FOR FURTHER INFORMATION CONTACT: Captain James Gardner, Chief, Marine Chart Division, Office of Coast Survey, NOS/NOAA, 301-713-2724 x101, fax 301-713-4516, Jim.Gardner@noaa.gov.

SUPPLEMENTARY INFORMATION: NOS is responsible for providing nautical charts and related information for safe navigation and other purposes under 33 U.S.C. 883a et seq. NOS developed Raster Navigational Charts under a cooperative research and development agreement (CRADA) with Maptech, Inc. as one means of fulfilling this responsibility. During the period the CRADA was in effect, the resulting RNCs were produced by Maptech, and were sold through commercial channels. At the conclusion of the CRADA, NOS determined that RNCs had proven to be a beneficial product that contributed to the safety of navigation, and were desired by the public. NOS therefore decided to continue the production of RNCs and to distribute them via the Internet.

NOS had previously announced its intention to begin using the Internet to distribute more of NOS' products when it was reasonable and feasible (see Federal Register, May 21, 2003, Volume 68, Number 98, page 27784-27785). NOAA consulted with the U.S. Coast Guard about this proposal. The Coast Guard concurred that such action would promote marine safety. The action is also designed to be consistent with section 2 of the Paperwork Reduction Act, 44 U.S.C. 3506(d) and Office of Management and Budget Circular A-130 regarding information management and dissemination, and is expected to maximize the usefulness of government data.

One of the primary reasons for making digital navigational and related data available to the public on the Internet is to promote safe navigation. Today's digital technologies and widespread access to the Internet provide the means to make this information available to the mariner much sooner, sometimes in near real-time. In addition, more accurate or complete information can be distributed in digital format than could be provided in a printed document. Releasing NOS digital navigation data and information via the Internet is expected to encourage commercial mariners, recreational boaters, and others to use the most accurate and complete digital information available.

A secondary benefit of releasing these data on the Internet is to promote the open and efficient exchange of public, scientific, and technical information. The public generally, not just mariners, have an interest in these data. Internet access to NOS navigation and other data should improve its dissemination to ocean engineers, marine scientists, emergency response personnel, managers and policy makers (including those in State and local governments), academia and other institutions, as well as the private sector. Such action may promote scientific advances, sound marine and coastal management, and the commercial development of new and better navigational or other products.

NOS is concerned about the use of these data in situations that may compromise marine safety. Consequently, NOS plans to work with mariners, product developers, and others to establish standards for those who wish to incorporate RNCs into navigation products, and to certify compliance with those standards for makers of derived navigational products.

NOS is publishing this notice to comply with section 8a(6)(j) of the Office of Management and Budget Circular A-130 which directs agencies to provide adequate notice when initiating, substantially modifying, or terminating significant information dissemination products.

Dated: November 22, 2005.
Captain Roger L. Parsons,
NOAA, Director, Office of Coast Survey, Ocean Services and Coastal Zone Management, National Oceanic and Atmospheric Administration.

[FR Doc. E5-6764 Filed 12-1-05; 8:45 am]

BILLING CODE 3510-JE-P